DEPARTMENT OF DEFENSE

Department of the Navy

[Docket ID: USN-2010-0021]

Preferred Supplier Program (PSP); Withdrawal

AGENCY: Department of the Navy, DOD.

ACTION: Notice; withdrawal.

SUMMARY: The Department of the Navy (DoN) published a Notice in the Federal Register (75 FR 100) on May 25, 2010, concerning a policy that would establish a Preferred Supplier Program (PSP) with contractors that have demonstrated exemplary performance, at the corporate level; in the areas of cost, schedule, performance, quality, and business relations. DoN is formally withdrawing this Notice as of June 11, 2010.

FOR FURTHER INFORMATION CONTACT: Clarence Belton, 703-693-4006 or clarence.belton@navy.mil.

Dated: June 7, 2010.
A.M. Vallandingham,
Lieutenant Commander, Office of the Judge Advocate General, U.S. Navy, Federal Register Liaison Officer.

[FR Doc. 2010-14045 Filed 6-10-10; 8:45 am]

BILLING CODE 3810-FF-P